ENVIRONMENTAL PROTECTION AGENCY

40 CFR Part 70

[TN-T5-2001-01b; FRL-6956-7]

Clean Air Act Proposed Full Approval of Operating Permit Program; Tennessee and Memphis-Shelby County

AGENCY: Environmental Protection Agency (EPA).

ACTION: Proposed rule.

SUMMARY: EPA proposes full approval of the operating permit programs of the Tennessee Department of Environment and Conservation and the Memphis-Shelby County Health Department. In the final rules section of this Federal Register, EPA is approving the Tennessee and Memphis-Shelby County operating permit programs as a direct final rule without prior proposal because the Agency views this as a noncontroversial amendment and anticipates no adverse comments. An explanation for the approval is set forth in the direct final rule. If no adverse comments are received in response to this action, no further activity is contemplated. If EPA receives adverse comments, the direct final rule will be withdrawn and all public comments will be addressed in a subsequent final rule based on this proposed rule. EPA will not institute a second comment period on this action. Any parties interested in commenting should do so at this time.

DATES: Written comments must be received by April 19, 2001.

ADDRESSES: Written comments on this action should be addressed to Kim Pierce, Regional Title V Program Manager, Air & Radiation Technology Branch, EPA Region 4, 61 Forsyth Street, SW., Atlanta, Georgia 30303-8909. Copies of the Tennessee and Memphis-Shelby County submittals, and other supporting documentation relevant to this action, are available for inspection during normal business hours at EPA Region 4, Air & Radiation Technology Branch, 61 Forsyth Street, SW., Atlanta, Georgia 30303-8909.

FOR FURTHER INFORMATION CONTACT: Kim Pierce, EPA Region 4, at (404) 562-9124 or pierce.kim@epa.gov/.

SUPPLEMENTARY INFORMATION: For additional information see the direct final rule which is published in the final rules section of this Federal Register.

Dated: March 12, 2001.
A. Stanley Meiburg,
Acting Regional Administrator, Region 4.

[FR Doc. 01-6864 Filed 3-19-01; 8:45 am]

BILLING CODE 6560-50-P